DEPARTMENT OF AGRICULTURE

Food and Nutrition Service

Agency Information Collection Activities: Assessment of the Collection, Analysis, Validation, and Reporting of Supplemental Nutrition Assistance Program (SNAP) Employment and Training (E&T) Data

AGENCY: Food and Nutrition Service (FNS), USDA.

ACTION: Notice.

SUMMARY: In accordance with the Paperwork Reduction Act of 1995, this notice invites the general public and other public agencies to comment on this proposed information collection. This collection is a new collection for the assessment of the collection, analysis, validation, and reporting of SNAP E&T data collected by States.

DATES: Written comments must be received on or before January 28, 2020.

ADDRESSES: Comments may be sent to: Leigh Gantner, Food and Nutrition Service, U.S. Department of Agriculture, 3101 Park Center Drive, Room, Alexandria, VA 22302. Comments may also be submitted via email to leigh.gantner@usda.gov. Comments will also be accepted through the Federal eRulemaking Portal. Go to http://www.regulations.gov, and follow the online instructions for submitting comments electronically. All responses to this notice will be summarized and included in the request for Office of Management and Budget approval. All comments will be a matter of public record.

FOR FURTHER INFORMATION CONTACT: Requests for additional information or copies of this information collection should be directed to Leigh Gantner by email at leigh.gantner@usda.gov or by phone at (703) 305-2822.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Assessment of the Collection, Analysis, Validation, and Reporting of SNAP Employment and Training Data project.

Form Number: None.

OMB Number: 0584-NEW.

Expiration Date: Not yet determined.

Type of Request: New collection.

Abstract: Abstract: Section 17 [7 U.S.C. 2026] (a)(1) of the Food and Nutrition Act of 2008, as amended, provides general legislative authority for the planned data collection. It authorizes the Secretary of Agriculture to enter into contracts with private institutions to undertake research that will help to improve the administration and effectiveness of SNAP in delivering nutrition-related benefits.

Under the Supplemental Nutrition Assistance Program (SNAP), States are required to operate an Employment and Training (E&T) program to help participants gain skills, education, training, and experience that lead to employment and greater economic self-sufficiency. The U.S. Department of Agriculture, Food and Nutrition Service (FNS) uses several methods to collect information on State SNAP E&T programs: annual State SNAP E&T plans, quarterly FNS-583 SNAP E&T Program Activity Report data forms (OMB 0584-0594, currently undergoing review), and annual outcome reporting measures. FNS has found that reported data are often inconsistent, incomplete, and inaccurate. This makes it challenging for FNS to analyze these data to determine the outcomes of SNAP E&T participants and to assist States in improving their programs.

FNS will: (1) Identify and describe the current State and Federal systems that collect, validate, and analyze E&T data; (2) assess the current and future E&T data needs of Federal, Regional, and State staff; and (3) recommend a plan to improve how Federal, Regional, and State staff collect and use data for E&T program improvement and reporting. The assessment will include two main data collection activities: (1) 10 in-person meetings with a range of staff from Federal agencies ¹ to better understand the systems for collecting and analyzing SNAP E&T data, assess the current and future data needs of SNAP E&T stakeholders, and identify options to improve the collection and analysis of data; and (2) site visits in seven States to observe their SNAP E&T business, data collection, and analysis processes, and to assess the current and future data needs from the perspective of a range of State and local staff, including local organizations that provide E&T activities.

¹ Discussions with Federal agencies do not require OMB clearance and are therefore not included in the burden estimates in this notice.

The data collection effort will culminate in a comprehensive final report of recommendations for FNS to meet its current and future data needs for the SNAP E&T program. The report will describe the current Federal, Regional, and State data systems and processes; the current and future data needs and goals of SNAP E&T; and the gaps between the current systems and data needs. In addition, the report will recommend methods to address these gaps through changes to data systems and information technology (IT) solutions, improved business processes, and expanded technical assistance.

Affected Public: FNS will reach out to eight State agencies, and anticipates that seven of these State agenices will agree to participate in the study. Approximately, 284 respondents within these seven States will be contacted to participate in the data collection. Of these 284 respondents, FNS anticipates 251 will agree to participate. Members of the public affected by the data collection include State, Local and Tribal governments and the private sector (Business-for-profit and not-for-profit). Respondent groups identified include the following:

• Directors and managers from State, Local, and Tribal government agencies supporting the SNAP E&T programs (35; 32 respondents and 3 non-respondents).

• Policy staff from State, Local, and Tribal government agencies supporting the SNAP E&T programs (28; 26 respondents and 2 non-respondents).

• Frontline staff from State, Local, and Tribal government agencies providing direct services to SNAP E&T participants (56; 50 respondents and 6 non-respondents).

• Data and IT staff from State, Local, and Tribal government agencies supporting the E&T programs (28; 26 respondents and 2 non-respondents).

• Directors and managers from private sector for-profit businesses providing SNAP E&T services (21; 18 repondents and 3 non-respondents).

• Frontline staff from private sector for-profit businesses providing SNAP E&T services (21; 18 repondents and 3 non-respondents).

• Data and IT staff from private sector for-profit businesses providing SNAP E&T services (11; 9 respondents and 2 non-respondents).

• Directors and managers from private sector not-for-profit agencies providing SNAP E&T services (35; 30 respodnets and 5 non-respondents).

• Frontline staff from private sector not-for-profit businesses providing SNAP E&T services (35; 30 respondents and 5 non-respondents).

• Data and IT staff from private sector not-for-profit businesses providing SNAP E&T services (14; 12 respondents and 2 non-respondents).

Estimated Number of Respondents: The total estimated number of respondents is 284. This includes the following:

• 35 State, Local, or Tribal agency directors and managers will be asked to participate in an interview (21 of which will also be asked to participate in a mapping discussion)

• 28 State, Local, or Tribal agency policy staff will be asked to participate in an interview (21 of which will also be asked to participate in a mapping discussion)

• 56 State, Local, or Tribal agency direct services staff will be asked to participate in an interview (56 of which will also be asked to participate in a mapping discussion)

• 28 State, Local, or Tribal agency data and IT staff will be asked to participate in an interview (21 of which will also be asked to participate in a mapping discussion, and 7 will also provide extant data)

• 21 private sector for-profit business directors and managers will be asked to participate in a mapping discussion (7 of which will also be asked to participate in an interview)

• 21 private sector for-profit business direct services staff will be asked to participate in a mapping discussion (7 of which will also be asked to participate in an interview)

• 11 private sector for-profit business data and IT staff will be asked to participate in a mapping discussion (11 of which will also be asked to participate in an interview)

• 35 private sector not-for-profit agency directors and managers will be asked to participate in a mapping discussion (14 of which will also be asked participate in an interview)

• 35 private sector not-for-profit agency direct services staff will be asked to participate in a mapping discussion (14 of which will also be asked to participate in an interview)

• 14 private sector not-for-profit agency data and IT staff will be asked to participate in a mapping discussion (14 of which will also be asked to participate in an interview)

Estimated Number of Responses per Respondent Some respondents will be asked to participate in one in-person interview only (28 respondents), others will be asked to particiate in a group mapping discussion only (70 respondents), and the remainder will be asked to participate in an interview and group mapping discussion (186 respondents).

Estimated Total Annual Responses: 1074.

Estimated Time per Response: The estimated time of response varies from 1 to 1.5 hours (60 to 90 minutes) depending on respondent group, as shown in the table that follows, with an average estimated time of 1.17 hours (70.2 minutes) for all respondents. Those declining participation are anticipated to spend 0.167 hours (10 minutes) reading the email invitation to participate and declining participation.

Estimated Total Annual Burden on Respondents: 915.88 hours (54,953minutes). See the following table for estimated total annual burden for each type of respondent.

Respondent type | Instrument | Sample size | Responsive: Estimated number of respondents | Responsive: Estimated frequency of response | Responsive: Total annual responses | Responsive: Number of burden hours per response | Responsive: Estimated total burden hours | Non-responsive: Estimated number of respondents | Non-responsive: Estimated frequency of response | Non-responsive: Total annual responses | Non-responsive: Number of burden hours per response | Non-responsive: Estimated total burden hours
State agency staff | Recruitment email | 8 | 7 | 1 | 7 | 0.167 | 1.17 | 1 | 1 | 1 | 0.167 | 0.167
State, local, or Tribal agency directors and managers | Interview discussion guide | 35 | 32 | 1 | 32 | 1.5 | 48.00 | 3 | 1 | 3 | 0.167 | 0.501
| Mapping group discussion | 21 | 20 | 1 | 20 | 1.5 | 30.00 | 1 | 1 | 1 | 0.167 | 0.167
State, local, or Tribal agency policy staff | Interview discussion guide | 28 | 26 | 1 | 26 | 1.5 | 39.00 | 2 | 1 | 2 | 0.167 | 0.334
| Mapping group discussion | 21 | 20 | 1 | 20 | 1.5 | 30.00 | 1 | 1 | 1 | 0.167 | 0.000
State, local or Tribal agency direct services staff | Interview discussion guide | 56 | 50 | 1 | 50 | 1.5 | 75.00 | 6 | 1 | 6 | 0.167 | 1.002
| Mapping group discussion | 56 | 50 | 1 | 50 | 1.5 | 75.00 | 6 | 1 | 6 | 0.167 | 1.002
State, local, or Tribal agency data and IT staff | Interview discussion guide | 28 | 26 | 1 | 26 | 1 | 26.00 | 2 | 1 | 2 | 0.167 | 0.334
| Mapping group discussion | 21 | 20 | 1 | 20 | 1.5 | 30.00 | 1 | 1 | 1 | 0.167 | 0.167
| Extant data collection | 7 | 7 | 1 | 7 | 1 | 7.00 | 0 | 0 | 0 | 0 | 0.000
Sub-Totals for SLT |  |  | 134 |  | 258 |  | 361.17 | 13 |  | 23 |  | 3.674
Recruitment email for private sector for-profit business | Recruitment email | 21 | 18 | 1 | 18 | 0.167 | 3.01 | 3 | 1 | 3 | 0.167 | 0.501
Private sector for-profit business directors and managers | Interview discussion guide | 7 | 6 | 1 | 6 | 1 | 6.00 | 1 | 1 | 1 | 0.167 | 0.167
| Mapping group discussion | 21 | 18 | 1 | 18 | 1 | 18.00 | 3 | 1 | 3 | 0.167 | 0.501
Private sector for-profit business direct services staff | Interview discussion guide | 7 | 5 | 1 | 5 | 1 | 5.00 | 2 | 1 | 2 | 0.167 | 0.334
| Mapping group discussion | 21 | 18 | 1 | 18 | 1 | 18.00 | 3 | 1 | 3 | 0.167 | 0.501
Private sector for-profit business data and IT staff | Interview discussion guide | 11 | 9 | 1 | 9 | 1 | 9.00 | 2 | 1 | 2 | 0.167 | 0.334
| Mapping group discussion | 11 | 9 | 1 | 9 | 1 | 9.00 | 2 | 1 | 2 | 0.167 | 0.334
Recruitment email for not-for-profit business | Recruitment email | 35 | 30 | 1 | 30 | 0.167 | 5.01 | 5 | 1 | 5 | 0.167 | 0.835
Private sector not-for-profit agency directors and managers | Interview discussion guide | 14 | 12 | 1 | 12 | 1 | 12.00 | 2 | 1 | 2 | 0.167 | 0.334
| Mapping group discussion | 35 | 30 | 1 | 30 | 1 | 30.00 | 5 | 1 | 5 | 0.167 | 0.835
Private sector not-for-profit agency direct services staff | Interview discussion guide | 14 | 12 | 1 | 12 | 1 | 12.00 | 2 | 1 | 2 | 0.167 | 0.334
| Mapping group discussion | 35 | 30 | 1 | 30 | 1 | 30.00 | 5 | 1 | 5 | 0.167 | 0.835
Private sector not-for-profit agency data and IT staff | Interview discussion guide | 14 | 12 | 1 | 12 | 1 | 12.00 | 2 | 1 | 2 | 0.167 | 0.334
| Mapping group discussion | 14 | 12 | 1 | 12 | 1 | 12.00 | 2 | 1 | 2 | 0.167 | 0.334
Sub-Totals for Business-for-not-for-Profit |  |  | 117 |  | 221 |  | 181.02 | 20 |  | 39 |  | 6.513
Grand Total Burden for both SLT and Business |  | 284 | 251 |  | 951 |  | 902.19 | 33 |  | 123 |  | 13.694

Dated: November 4, 2019.
Pamilyn Miller,
Administrator, Food and Nutrition Service.

[FR Doc. 2019-25639 Filed 11-27-19; 8:45 am]

BILLING CODE 3410-30-P